DEPARTMENT OF THE INTERIOR

Bureau of Indian Affairs

Indian Gaming

AGENCY: Bureau of Indian Affairs, Interior.

ACTION: Notice of approved Tribal-State Compacts.

SUMMARY: Pursuant to section 11 of the Indian Gaming Regulatory Act of 1988 (IGRA), Public Law 100-497, 25 U.S.C. 2710, the Secretary of the Interior shall publish, in the Federal Register, notice of approved Tribal-State Compacts for the purpose of engaging in Class III gaming activities on Indian lands. The Assistant Secretary—Indian Affairs, Department of the Interior, through his delegated authority, has approved the Tribal-State Compacts between the Pueblos of Isleta, Laguna, Sandia, San Juan, Santa Ana, Santa Clara and Acoma and the State of New Mexico, which were executed on or about October 3, 2001.

DATES: This action is effective December 14, 2001.

FOR FURTHER INFORMATION CONTACT: George T. Skibine, Director, Office of Indian Gaming Management, Bureau of Indian Affairs, Washington, DC 20240; (202) 219-4066.

Dated: November 30, 2001.
Neal A. McCaleb,
Assistant Secretary—Indian Affairs.

[FR Doc. 01-30908 Filed 12-13-01; 8:45 am]

BILLING CODE 4310-02-M